DEPARTMENT OF COMMERCE

National Oceanic and Atmospheric Administration

50 CFR Part 679

[Docket No. 991207325-0063-02; I.D. 100699A]

Fisheries of the Exclusive Economic Zone Off Alaska; North Pacific Halibut and Sablefish IFQ Cost Recovery Program

AGENCY: National Marine Fisheries Service (NMFS), National Oceanic and Atmospheric Administration (NOAA), Commerce.

ACTION: Notice of standard prices and fee percentage for North Pacific halibut and sablefish Individual Fishing Quota (IFQ) cost recovery program.

SUMMARY: The NMFS publishes IFQ standard prices and notification of adjustment of the IFQ fee percentage for the IFQ Cost Recovery Program in the halibut and sablefish fisheries of the North Pacific. This action is required by regulations in 50 CFR part 679. This action is intended to provide holders of halibut and sablefish IFQs with information to calculate the payments required for IFQ cost recovery fees due by January 31, 2003.

DATES: Effective December 16, 2002.

FOR FURTHER INFORMATION CONTACT: Kristie Balovich, Fee Coordinator, 907-586-7344.

SUPPLEMENTARY INFORMATION:

Background

NMFS, Alaska Region, administers the halibut and sablefish IFQ programs in the North Pacific. The IFQ Programs are limited access systems authorized by section 303(b) of the Magnuson-Stevens Fishery Conservation and Management Act (Magnuson-Stevens Act) and the Northern Pacific Halibut Act of 1982. Fishing under the IFQ Programs began in March 1995. Regulations implementing the IFQ Program are set forth at 50 CFR part 679.

In 1996, the Magnuson-Stevens Act was amended (by Public Law 104-297) to, among other things, require the Secretary of Commerce to “collect a fee to recover the actual costs directly related to the management and enforcement of any * * * individual fishing quota program.” (Section 304(d)(2)(A)). Section 304(d)(2) of the Magnuson-Stevens Act specifies an upper limit on these fees, when the fees must be collected, and where the fees must be deposited. Section 303(d)(4) of the Magnuson-Stevens Act allows NMFS to reserve up to 25 percent of the fees collected for use in an IFQ loan program to aid in financing the purchase of IFQ or quota share (QS) by entry-level and small-vessel fishermen.

On December 27, 1999, NMFS published a proposed rule to implement the IFQ Cost Recovery Program (64 FR 72302) and published the final rule on March 20, 2000 (65 FR 14919). The final regulations implementing the IFQ Cost Recovery Program are set forth at 50 CFR 679.45.

Under the regulations, an IFQ permit holder incurs a cost recovery fee liability for every pound of IFQ halibut and IFQ sablefish that is landed on his or her IFQ permit(s). The IFQ permit holder is responsible for self-collecting the fee liability for all IFQ halibut and IFQ sablefish landings on his or her permit(s). The IFQ permit holder is also responsible for submitting a fee liability payment to NMFS on or before the due date of January 31 following the year in which the IFQ landings were made. The dollar amount of the fee due is determined by multiplying the annual IFQ fee percentage (3 percent or less) by the ex-vessel value of each IFQ landing made on a permit and summing the totals of each permit (if more than one).

Fee Percentage

Three percent of the ex-vessel value of IFQ halibut and IFQ sablefish harvested is the maximum fee amount allowed by section 304(d)(2)(B) of the Magnuson-Stevens Act. Regulations at § 679.45(d) allow the Administrator, Alaska Region, NMFS (Regional Administrator), to reduce the fee percentage if actual management and enforcement costs could be recovered through a lesser percentage. In this event the Regional Administrator will publish a notification of any adjustment of the IFQ fee percentage in the Federal Register pursuant to § 679.45(d)(4).

For 2002, the Regional Administrator has determined that a fee of 2.0 percent (0.02) is necessary to recover the actual management and enforcement costs. Therefore, the Regional Administrator is adjusting the cost recovery fee applicable to year 2002 IFQ landings from 3 percent (0.03) to 2.0 percent (0.02).

Standard Prices

The fee liability is based on the sum of all payments of monetary worth made to fishermen for the sale of the fish. This includes any retro-payments, e.g., bonuses, delayed partial payments, post-season payments, made to the IFQ permit holder for previously landed IFQ halibut or sablefish.

For purposes of calculating IFQ cost recovery fees, NMFS distinguishes between two types of ex-vessel value: “actual ex-vessel value” and “standard ex-vessel value.” “Actual ex-vessel value” is the amount of all compensation, monetary or non-monetary, that an IFQ permit holder received as payment for his or her IFQ fish sold. “Standard ex-vessel value” is the default value on which to base fee liability calculations. However, IFQ permit holders have the option of using “actual ex-vessel value” if they can satisfactorily document those values.

Regulations at § 679.45(c)(2)(i) require the Regional Administrator to publish IFQ standard prices during the last quarter of each calendar year. These standard prices are used, along with estimates of IFQ halibut and sablefish landings, to calculate standard values. The standard prices are described in U.S. dollars per IFQ equivalent pound, for IFQ halibut and IFQ sablefish landings made during the year. IFQ equivalent pound(s) means the weight amount, recorded in pounds, for an IFQ landing and calculated as round weight for sablefish and headed and gutted (“net”) weight for halibut. NMFS calculates the standard prices to reflect, as closely as possible, by month and port or port-group, the variations in the actual ex-vessel values of IFQ halibut and IFQ sablefish landings. The standard prices for IFQ halibut and IFQ sablefish are listed in the following table. Data from ports are combined as necessary to protect confidentiality of data submissions.

REGISTERED BUYER STANDARD PRICES BY LANDING LOCATION FOR 2002 IFQ SEASON
LANDING LOCATION | PERIOD ENDING | HALIBUT STANDARD PRICE | SABLEFISH STANDARD PRICE
CORDOVA | March 31 April 30 May 31 June 30 July 31 August 31 September 30 October 31 November 30 | $1.99 $1.99 $2.03 $2.21 $2.44 $2.77 $2.77 $2.77 | $1.99
DUTCH HARBOR | March 31 April 30 May 31 June 30 July 31 August 31 September 30 October 31 November 30 | $1.83 $1.77 $1.87 $1.96 $2.12 $2.29 $2.29 $2.29 | $1.76 $1.78 $2.10 $1.95 $1.95 $1.95
HOMER | March 31 April 30 May 31 June 30 July 31 August 31 September 30 October 31 November 30 | $2.17 $2.13 $1.97 $2.07 $2.19 $2.54 $2.90 $2.90 $2.90 | $1.85 $1.86 $2.18 $2.17
KETCHIKAN | March 31 April 30 May 31 June 30 July 31 August 31 September 30 October 31 November 30 | $2.06 $2.20 $2.40 $2.74 $2.74 $2.74 |
KODIAK | March 31 April 30 May 31 June 30 July 31 August 31 September 30 October 31 November 30 | $2.13 $1.89 $1.34 $1.91 $1.97 $2.23 $2.56 $2.56 $2.56 | $1.98 $1.98 $2.04 $2.20 $2.34 $2.34 $2.34
PETERSBURG | March 31 April 30 May 31 June 30 July 31 August 31 September 30 October 31 November 30 | $2.06 $2.04 $2.03 $2.02 $2.08 $2.37 $2.71 $2.71 $2.71 | $2.03
SEWARD | March 31 April 30 May 31 June 30 July 31 August 31 September 30 October 31 November 30 | $2.28 $2.07 $1.92 $1.99 $2.73 $2.73 $2.73 | $2.01 $1.94 $1.94 $2.03 $2.40 $2.40 $2.40
SITKA | March 31 April 30 May 31 June 30 July 31 August 31 September 30 October 31 November 30 | $1.95 $2.68 $2.68 $2.68 |

REGISTERED BUYER STANDARD PRICES BY PORT GROUP FOR 2002 IFQ SEASON
PORT GROUP | PERIOD ENDING | HALIBUT STANDARD PRICE | SABLEFISH STANDARD PRICE
¹BERING SEA | March 31 April 30 May 31 June 30 July 31 August 31 September 30 October 31 November 30 | $1.70 $1.76 $1.84 $1.93 $2.07 $2.25 $2.25 $2.25 | $1.78 $1.82 $1.90 $1.98 $2.11 $2.00 $2.00 $2.00
²CENTRAL GULF | March 31 April 30 May 31 June 30 July 31 August 31 September 30 October 31 November 30 | $2.19 $2.04 $1.75 $1.98 $2.07 $2.46 $2.67 $2.67 $2.67 | $1.98 $2.04 $1.99 $2.07 $2.15 $2.23 $2.44 $2.44 $2.44
³SOUTHEAST | March 31 April 30 May 31 June 30 July 31 August 31 September 30 October 31 November 30 | $2.14 $2.05 $2.04 $2.03 $2.17 $2.37 $2.72 $2.72 $2.72 | $2.06 $2.04 $2.09 $2.22 $2.28 $2.34 $2.64 $2.64 $2.64
⁴ALL | March 31 April 30 May 31 June 30 July 31 August 31 September 30 October 31 November 30 | $2.16 $2.03 $1.83 $1.97 $2.04 $2.26 $2.60 $2.60 $2.60 | $2.03 $2.02 $2.00 $2.11 $2.14 $2.23 $2.49 $2.49 $2.49
¹ Landing locations Within Port Group - Bering Sea: Adak, Akutan, Akutan Bay, Atka, Bristol Bay, Chefornak, Dillingham, Captains Bay, Dutch Harbor, Egegik, Ikatan Bay, Hooper Bay, King Cove, King Salmon, Kipnuk, Mekoryuk, Naknek, Nome, Quinhagak, Savoonga, St. George, St. Lawrence, St. Paul, Togiak, Toksook Bay, Tununak, Beaver Inlet, Ugadaga Bay, Unalaska.
² Landing Locations Within Port Group - Central Gulf of Alaska: Anchor Point, Anchorage, Chignik, Cordova, Eagle River, False Pass, West Anchor Cove, Girdwood, Chinitna Bay, Halibut Cove, Homer, Kasilof, Kenai, Kenai River, Alitak, Kodiak, Port Bailey, Nikiski, Ninilchik, Old Harbor, Palmer, Sand Point, Seldovia, Resurrection Bay, Seward, Valdez.
³ Landing Locations Within Port Group - Southeast Alaska: Angoon, Baranof Warm Springs, Craig, Edna Bay, Elfin Cove, Excursion Inlet, Gustavus, Haines, Hollis, Hoonah, Hyder, Auke Bay, Douglas, Tee Harbor, Juneau, Kake, Ketchikan, Klawock, Metlakatla, Pelican, Petersburg, Portage Bay, Port Alexander, Port Graham, Port Protection, Point Baker, Sitka, Skagway, Tenakee Springs, Thorne Bay, Wrangell, Yakutat.
⁴ Landing Locations Within Port Group - All: For Alaska: All landing locations included in 1, 2, and 3. For California: Eureka, Fort Bragg, Other California. For Oregon: Astoria, Aurora, Lincoln City, Newport, Warrenton, Other Oregon. For Washington: Anacortes, Bellevue, Bellingham, Nagai Island, Edmonds, Everett, Granite Falls, Ilwaco, La Conner, Port Angeles, Port Orchard, Port Townsend, Ranier, Fox Island, Mercer Island, Seattle, Standwood, Other Washington. For Canada: Port Hardy, Port Edward, Prince Rupert, Vancouver, Haines Junction, Other Canada.

Dated: December 4, 2002.
Bruce C. Morehead,
Acting Director, Office of Sustainable Fisheries, National Marine Fisheries Service.

[FR Doc. 02-31447 Filed 12-13-02; 8:45 am]

BILLING CODE 3510-22-S